DEPARTMENT OF ENERGY

Federal Energy Regulatory Commission

Notice of Effectiveness of Exempt Wholesale Generator and Foreign Utility Company Status

| Docket Nos.
WPL Crawfish River Solar, LLC | EG22-81-000
WPL Bear Creek Solar, LLC | EG22-82-000
WPL Wood County Solar, LLC | EG22-83-000
WPL North Rock Solar, LLC | EG22-84-000
Concho Valley Solar, LLC | EG22-85-000
Brazoria County Solar Project LLC | EG22-86-000
Castle Gap Wind Power, LLC | EG22-87-000
Lantana Wind Power, LLC | EG22-88-000
Bluebonnet Wind Power, LLC | EG22-89-000
Laurel Mountain Interconnection, LLC | EG22-90-000
Greeley Energy Facility, LLC | EG22-91-000
Hellador Power Company, LLC | EG22-92-000
LI Solar Generation, LLC | EG22-93-000
SR McKellar Lessee, LLC | EG22-94-000
SR McKellar, LLC | EG22-95-000
Sonoran West Solar Holdings 2, LLC | EG22-97-000
Sonoran West Holdings, LLC | EG22-98-000
Enel Green Power Estonian Solar Project, LLC | EG22-99-000
LI Solar Generation, LLC | EG22-100-000
EdSan 1B Group 1 Edwards, LLC | EG22-101-000
EdSan 1B Group 1 Sanborn, LLC | EG22-102-000
EdSan 1B Group 2, LLC | EG22-103-000
EdSan 1B Group 3, LLC | EG22-104-000
Walleye Wind, LLC | EG22-105-000
Bell Ridge Solar, LLC | EG22-106-000
Thunder Wolf Energy Center, LLC | EG22-107-000
Neptune Energy Center, LLC | EG22-108-000

Take notice that during the month of June 2022, the status of the above-captioned entities as Exempt Wholesale Generators Companies became effective by operation of the Commission's regulations. 18 CFR 366.7(a) (2021).

Dated: July 13, 2022.
Debbie-Anne A. Reese,
Deputy Secretary.

[FR Doc. 2022-15353 Filed 7-18-22; 8:45 am]

BILLING CODE 6717-01-P